DEPARTMENT OF ENERGY

Federal Energy Regulatory Commission

[Project No. 9951-057]

STS Hydropower, LLC; Charter Township of Van Buren, Michigan, Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 9951-057.

c. Date Filed: April 29, 2025.

d. Applicant: STS Hydropower, LLC and the Charter Township of Van Buren, Michigan (applicants).

e. Name of Project: French Landing Hydroelectric Project.

f. Location: On the Huron River in Wayne County, Michigan.

g. Filed Pursuant to: Federal Power Act, 16 U.S.C. 791 (a)-825(r).

h. Applicant Contact: Jody Smet, Senior Vice President Regulatory Affairs, Chief Compliance Officer, STS Hydropower, LLC, 7315 Wisconsin Avenue, Suite 1100W, Bethesda, MD 20814; telephone at (804) 382-1764; email at jody.smet@eaglecreekre.com.

i. FERC Contact: Rebecca Brodeur, Project Coordinator, Great Lakes Branch, Division of Hydropower Licensing; telephone at (202) 502-8392; email at rebecca.brodeur@ferc.gov.

j. Deadline for filing motions to intervene, protests, comments, recommendations, preliminary terms and conditions, and preliminary fishway prescriptions: February 2, 2026, by 5:00 p.m. Eastern Time. Deadline for filing reply comments: March 18, 2026, by 5:00 p.m. Eastern Time.

The Commission strongly encourages electronic filing. Please file motions to intervene, protests, comments, recommendations, preliminary terms and conditions, and preliminary fishway prescriptions using the Commission's eFiling system at https://ferconline.ferc.gov/FERCOnline.aspx. Commenters can submit brief comments up to 10,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: French Landing Hydroelectric Project (P-9951-057).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing project consists of a 1,123.5-foot-long dam that includes two 22.2-foot-long Tainter gates with crest elevations of 652 feet National Geodetic Vertical Datum of 1929 (NGVD29), a powerhouse that includes trashracks with 2-inch clear bar spacing and a 1,650-kilowatt Francis turbine-generator unit, a 181.1-foot-long spillway with a crest elevation of 652 feet NGVD29, and east and west embankments, including an 18-foot-long stoplog gate in the west embankment. The dam creates an impoundment (Belleville Lake) that has a surface area of 1,270 acres at a normal maximum surface elevation of 651.5 feet NGVD29. From the impoundment, water flows through the powerhouse to a tailrace that discharges to the Huron River.

The generator is connected to the regional electric grid by 525-foot-long 4.16-kilovolt (kV) transmission line and a 4.16/41.6-kV step-up transformer.

Project recreation facilities include: (1) French Landing Park with a hand-carry boat impoundment access site on the northern shoreline of the impoundment, pavilion with picnic tables, two paved parking areas that can accommodate a total of 19 vehicles, boardwalk with a fishing platform, and restroom; (2) an approximately 1,150 foot-long portage route that extends from an impoundment take-out site on the southern shoreline of the impoundment to a put-in site on the southern bank of the Huron River; and (3) a tailrace fishing access site immediately downstream of the powerhouse on the southern bank of the tailrace.

The applicants propose to: (1) continue operating the project in a run-of-river mode; (2) develop an operation compliance monitoring plan, invasive species management plan, and recreation management plan; (3) continue to maintain the project recreation facilities; and (4) enhance the portage route trail and stairs to the put-in site.

m. A copy of the application can be viewed on the Commission's website at http://www.ferc.gov using the “eLibrary” link. Enter the docket number excluding the last three digits in the docket number field to access the document (P-9951). For assistance, contact FERC Online Support.

You may also register online at https://ferconline.ferc.gov/FERCOnline.aspx to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “PRELIMINARY TERMS AND CONDITIONS,” or “PRELIMIINARY FISHWAY PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

For public inquiries and assistance with making filings such as interventions, comments, or requests for rehearing, contact the Office of Public Participation at (202) 502-6595 or OPP@ferc.gov.

o. The applicant must file on or before 5:00 p.m. Eastern Time on February 2, 2026: (1) a copy of the water quality certification; (2) a copy of the request for certification, including proof of the date on which the certifying agency received the request; or (3) evidence of waiver of water quality certification.

p. Procedural schedule: The application will be processed according to the following schedule. Revisions to the schedule will be made as appropriate.

Milestone | Target date
Filing of Motions to Intervene, Protests, Comments, Recommendations, Preliminary Terms and Conditions, and Preliminary Fishway Prescriptions | February 2026.
Filing of Reply Comments | March 2026.

q. Final amendments to the application must be filed with the Commission on or before 5:00 p.m. Eastern Time on January 2, 2026.

(Authority: 18 CFR 2.1)

Dated: December 3, 2025.
Debbie-Anne A. Reese,
Secretary.

[FR Doc. 2025-22227 Filed 12-5-25; 8:45 am]

BILLING CODE 6717-01-P